SECURITIES AND EXCHANGE COMMISSION

[Release No. 34-63105; File No. SR-BX-2010-059]

Self-Regulatory Organizations; NASDAQ OMX BX, Inc.; Notice of Designation of a Longer Period for Commission Action on Proposed Rule Change To Create a Listing Market on the Exchange

October 14, 2010.

On August 20, 2010, NASDAQ OMX BX, Inc. (“Exchange”) filed with the Securities and Exchange Commission (“Commission”), pursuant to Section 19(b)(1) ¹ of the Securities Exchange Act of 1934 (“Act”),² and Rule 19b-4 thereunder,³ a proposed rule change to create a listing market, which will be called “BX.” The proposed rule change was published for comment in the Federal Register on September 8, 2010.⁴ The Commission received two comment letters on this proposal.⁵

¹ 15 U.S.C. 78s(b)(1).

² 15 U.S.C. 78a.

³ 17 CFR 240.19b-4.

⁴ See Securities Exchange Act Release No. 62818 (September 1, 2010), 75 FR 54665.

⁵ See Letter to Elizabeth M. Murphy, Secretary, Commission, from William F. Galvin, Secretary of the Commonwealth, Commonwealth of Massachusetts, dated September 28, 2010; and Letter to Elizabeth M. Murphy, Secretary, Commission, from Michael R. Trocchio, Bingham McCutchen LLP, on behalf of Pink OTC Markets Inc., dated October 3, 2010.

Section 19(b)(2) of the Act ⁶ provides that within forty-five days of the publication of notice of the filing of a proposed rule change, or within such longer period up to ninety days as the Commission may designate if it finds such longer period to be appropriate and publishes its reasons for so finding or as to which the self-regulatory organization consents, the Commission shall either approve the proposed rule change, disapprove the proposed rule change, or institute proceedings to determine whether the proposed rule change should be disapproved. The 45th day for this filing is October 23, 2010. The Commission is extending this 45-day time period.

⁶ 15 U.S.C. 78s(b)(2).

The Commission finds it appropriate to designate a longer period within which to take action on the proposed rule change so that it has sufficient time to consider this proposed rule change, which would create a new listing market on the Exchange, and to consider the comment letters that have been submitted in connection with this proposed rule change.

Accordingly, the Commission, pursuant to Section 19(b)(2) of the Act,⁷ designates December 7, 2010, as the date by which the Commission should either approve or disapprove or institute proceedings to determine whether to disapprove the proposed rule change.

⁷ 15 U.S.C. 78s(b)(2).

For the Commission, by the Division of Trading and Markets, pursuant to delegated authority.⁸
⁸ 17 CFR 200.30-3(a)(31).
Florence E. Harmon,
Deputy Secretary.

[FR Doc. 2010-26358 Filed 10-19-10; 8:45 am]

BILLING CODE 8011-01-P